GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA undertook and completed an agency-wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also include the new requirement from OMB Memorandum M-07-16 regarding a new routine use that allows agencies to disclose information in connection with a response and remedial efforts in the event of a data breach.

Dated: April 16, 2008.
Cheryl M. Paige,
Director, Office of Information Management.

GSA/HRO-2

SYSTEM NAME:

Employee Drug Abuse/Alcoholism Files.

LOCATION:

The system is located in the office of the private sector organizations or providers for the Employee Assistance Program (EAP) who have contracted with the Office of Human Resources Services at GSA.

The EAP office contacts are as follows:

Central Office, Federal Occupational Health, (800) 222-0364.

National Capital Region, Federal Occupational Health, (800) 222-0364.

Northeast and Caribbean Region, Cooperative Administrative Support Program Consortia, Long Island and Queens: (516) 222-1221, New Jersey: (201) 402-1015, Puerto Rico and the Virgin Islands: (809) 763-6701 or (800) 981-5070, New York City: (212) 264-4673, New England: (617) 565-6533 or (800) 869-8867.

Mid-Atlantic Region, Federal Occupational Health, (800) 222-0364.

Southeast Sunbelt Region, Davine Sparks, LCSW, (800) 222-0364 or (404) 730-3237.

Great Lakes Region, Federal Occupational Health, (800) 222-0364.

The Heartland Region, Federal Occupational Health, (800) 222-0364.

Greater Southwest Region, Federal Occupational Health, (800) 222-0364 or (888) 262-7848.

Pacific Rim Region, North of Bakersfield: Linda Boone or Jean Taylor (415) 436-7448, South of Bakersfield: Joan Sexton (213) 894-0160 or Sandy Freed (213) 894-0153.

New England Region, Services provided by a Consortia—Individual providers, (617) 565-6533 or (800) 869-8867.

Rocky Mountain Region, Federal Occupational Health (800) 222-0364 or (888) 262-7848 (TTY).

TYPES OF RECORDS IN THE SYSTEM:

1. Counseling and rehabilitation referrals.

2. Records of counseling and rehabilitation.

AUTHORITY FOR MAINTAINING THE SYSTEM:

Public Law 92-255 and 5 U.S.C. 7904.

PURPOSE:

To maintain an information system on employees suspected of abusing or known to abuse alcohol or another drug and for self-initiated referrals.

ROUTINE USES OF THE RECORD SYSTEM, INCLUDING TYPES OF USERS AND THEIR PURPOSES IN USING IT:

Disclosing information related to anyone with a history of alcohol or drug abuse is restricted by Alcohol and Drug Abuse Patient Records regulations, 42 CFR part 2. System information may be accessed and used by authorized Federal agency employees or contractors to conduct official duties. Information from this system also may be disclosed as a routine use:

a. Documenting that the supervisor deals properly with an employee whose work is affected by alcohol abuse or other drug abuse.

b. Communicating information to those who use it in performing their duties, such as a counselor, medical or health worker, an alcohol or other drug abuse program administrator, or a qualified service organization.

c. Disclosing information to the Department of Justice or another Federal agency in defending a claim against the United States, when the claim is based on a person's mental or physical condition and is allegedly caused by GSA activities affecting the person.

d. In any legal proceeding, where pertinent, to which GSA is a party before a court or administrative body.

e. To authorized officials engaged in investigating or settling a grievance, complaint, or appeal filed by an individual who is the subject of the record.

f. To a Federal agency in connection with the hiring or retention of an employee; the issuance of a security clearance; the reporting of an investigation; the letting of a contract; or the issuance of a grant, license, or other benefit to the extent that the information is relevant and necessary to a decision.

g. To the Office of Personnel Management (OPM), the Office of Management and Budget (OMB), or the Government Accountability Office (GAO) when the information is required for program evaluation purposes.

h. To a Member of Congress or staff on behalf of and at the request of the individual who is the subject of the record.

i. To an expert, consultant, or contractor of GSA in the performance of a Federal duty to which the information is relevant.

j. To the National Archives and Records Administration (NARA) for records management purposes.

k. To appropriate agencies, entities, and persons when (1) The Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING AND DISPOSING OF RECORDS IN THE SYSTEM:

STORAGE:

Paper records are kept in a file cabinet or in a drawer.

RETRIEVABILITY:

The records are filed alphabetically by name.

SAFEGUARDS:

When not in use by an authorized person, the records are stored in a locked metal file cabinet or in a secured room.

RETENTION AND DISPOSAL:

The records are kept for a year after the employee's last contact with a counselor or until the employee separates or transfers, whichever occurs first. If there is an EEO case, MSPB appeal, or arbitration, the records are kept for 3 years after the case is resolved. Records are destroyed by shredding or burning.

SYSTEM MANAGER(S) AND ADDRESS:

The Director, Human Capital Policy and Program Management Division (CHP), Office of Human Capital Management (CH), 1800 F Street, NW., Washington, DC 20405.

NOTIFICATION PROCEDURE:

An employee may obtain information as to whether he or she is part of the system of records from the immediate supervisor or the Director of Human Capital Policy and Program Management Division at the address above, whichever is appropriate.

RECORD ACCESS PROCEDURE:

A request to review a record related to you should be directed to the immediate supervisor or Director of Human Capital Policy and Program Management Division at the address above, whichever is appropriate. For the identification required, see 41 CFR part 105-64 published in the Federal Register.

PROCEDURE TO CONTEST A RECORD:

GSA rules to review the content of a record and appeal an initial decision are in 41 CFR part 105-64 published in the Federal Register.

RECORD SOURCES:

The supervisor(s), counselors, personnel specialists, and individual employee.

[FR Doc. E8-8933 Filed 4-24-08; 8:45 am]

BILLING CODE 6820-34-P